DEPARTMENT OF TRANSPORTATION

Office of the Secretary

[Docket No. DOT-OST-2024-0041]

Notice To Renew the Transforming Transportation Advisory Committee (TTAC)

AGENCY: Office of the Secretary (OST), Department of Transportation (DOT).

ACTION: Notice of the charter renewal of the Transforming Transportation Advisory Committee (TTAC), and TTAC Membership Balance Plan.

SUMMARY: The Office of the Secretary of Transportation (OST) announces the charter renewal of TTAC. The Secretary has determined that renewing TTAC charter is necessary and is in the public interest.

DATES: The TTAC Charter will be effective for two years after date of publication of this Federal Register Notice.

FOR FURTHER INFORMATION CONTACT: TTAC Designated Federal Officer, c/o Benjamin Ross Levine, Director of Strategic Initiatives, Office of the Assistant Secretary for Research and Technology, Office of the Secretary of Transportation, (202) 941-6180, ttac@dot.gov.

SUPPLEMENTARY INFORMATION: This notice announces the renewal of the DOT TTAC as a Federal Advisory Committee in accordance with the Federal Advisory Committee Act (Pub. L. 92-463, 5 U.S.C. ch. 10) to provide information, advice, and recommendations to the Secretary on matters relating to transportation innovation. TTAC is tasked with providing advice and recommendations to the Secretary about needs, objectives, plans, and approaches for transportation innovation. Please see the TTAC website for additional information at https://www.transportation.gov/ttac.

Issued in Washington, DC on July 8, 2024, under authority delegated at 49 CFR 1.25a.
Benjamin Ross Levine,
Director of Strategic Initiatives.

Current Charter of the Transforming Transportation Advisory Committee

1. Committee's Official Designation: The Committee's official designation is the Transforming Transportation Advisory Committee (TTAC).

2. Authority: The Committee is established as a discretionary Committee under the authority of the U.S. Department of Transportation (DOT) and in accordance with the provisions of the Federal Advisory Committee Act (FACA), as amended, 5 U.S.C. App. 2. The formation and use of TTAC are determined to be in the public interest.

3. Objectives and Scope of Activities: The Secretary of Transportation (the Secretary), or his or her designee, shall present TTAC with tasks on matters relating to transportation innovation. The Committee will provide advice and recommendations to the Secretary about needs, objectives, plans, and approaches for multimodal transportation innovation.

4. Description of Duties: The Committee is advisory only. Duties include the following:

a. Gathering information as necessary to discuss issues presented by the Designated Federal Officer (DFO);

b. Deliberating on the following issues, as assigned:

i. Exploring pathways to safe, secure, equitable, environmentally friendly and accessible deployments of emerging technologies;

ii. Identifying integrated approaches and finding ways to promote greater cross-modal integration of emerging technologies, in particular applications to deploy automation;:

iii. Recommending policies that encourage innovation to grow and support a safe and productive U.S. workforce, as well as foster economic competitiveness and job quality;

iv. Assessing approaches and frameworks that encourage the secure exchange and sharing of transformative transportation data, including technologies and infrastructure, across the public and private sectors that can guide core policy decisions across DOT's strategic goals;

v. Exploring ways the Department can identify and elevate cybersecurity solutions and protect privacy across transportation systems and infrastructure;

vi. Considering other emerging issues, topics, and technologies, at the direction of the DFO.

c. Providing written advice and recommendations to the Secretary.

5. Agency/Official to Whom the Committee Reports: The Committee shall report to the Secretary through the Under Secretary for Transportation Policy.

6. Support: The Office of the Assistant Secretary for Transportation Policy (OST-P) will provide necessary support for the Committee.

7. Estimated Annual Operating Costs and Staff Years: The annual operating (administrative) costs associated with the Committee's functions are estimated to be $200,000. The cost estimate includes support from 2 full-time equivalent positions that are required to support the Committee. Costs incurred by Committee members for travel and logistics will not be paid by the Department.

8. Designated Federal Officer (DFO) and Sponsor

a. The DFO for the Committee is OST's Senior Advisor for Innovation or his or her designee.

b. The DFO will approve or call all Committee and subcommittee meetings, prepare and approve all meeting agendas, attend all Committee and subcommittee meetings, adjourn any meetings when he or she determines adjournment to be in the public interest, and chair meetings when directed to do so by the Secretary.

9. Estimated Number and Frequency of Meetings: Committee meetings will be held approximately twice a year. As necessary, the DFO may call subcommittee meetings.

10. Duration: Continuing until renewed/terminated.

11. Termination: The Committee will terminate 2 years from the charter filing date unless the charter is renewed in accordance with the FACA.

12. Membership and Designation

a. Members will serve without charge, and without any government compensation.

b. The Committee shall comprise no more than 30 members appointed by the Secretary for up to 2-year terms.

c. Members serve at the discretion of the Secretary. The Secretary may extend appointments and may appoint replacements for members outside a stated term, as necessary.

d. The Secretary may reappoint members.

e. The members shall include safety advocates, experts from academia/universities, representatives of organized labor, technical experts (e.g., automation, data, privacy, cybersecurity), and industry representatives. Individuals appointed solely for their expertise will be appointed as special government employees (SGEs). No single interest group may constitute a majority of the Committee.

f. To ensure that the recommendations of the Committee have considered the needs of diverse groups served by the Department, membership shall include, to the extent practicable, persons with lived experience and knowledge of the needs of underrepresented groups.

g. Members may continue to serve until their replacements have been appointed.

h. The Secretary shall designate a chair and vice chair from among members of the Committee. They will serve 2-year nonrenewable terms. The vice chair will succeed the chair at the end of the term.

13. Subcommittees: The Secretary, Under Secretary for Transportation Policy, or DFO shall be authorized to establish subcommittees. Subcommittees shall not work independently of the chartered TTAC and shall report their recommendations and advice to the full TTAC for deliberation and discussion. Subcommittees must not provide advice or work products directly to DOT. Subcommittee membership is not limited to those who were selected as members of the Committee. Further, any costs associated with subcommittee travel or meetings will not be paid by the Department.

14. Recordkeeping: The records of the Committee, formally and informally established subcommittees, or other subgroups of the Committee, shall be handled in accordance with General Records Schedule 6.2 or other approved agency records disposition schedule. These records shall be available for public inspection and copying, subject to the Freedom of Information Act, 5 U.S.C. 552.

15. Filing Date: This charter is effective July 19, 2022. The charter will expire 2 years after this date unless sooner terminated or renewed.

Redline Comparison of Changes Made to the Charter of the Transforming Transportation Advisory Committee

1. Committee's Official Designation: The Committee's official designation is the Transforming Transportation Advisory Committee (TTAC).

2. Authority: The Committee is a discretionary Committee under the authority of the U.S. Department of Transportation (DOT) and in accordance with the provisions of the Federal Advisory Committee Act (FACA), 5 U.S.C. Ch.10. The formation and use of TTAC are determined to be in the public interest.

3. Objectives and Scope of Activities: The Secretary of Transportation (the Secretary), or his or her designee, will present TTAC with tasks on matters relating to transportation innovation. The Committee will provide advice and recommendations to the Secretary about needs, objectives, plans, and approaches for multimodal transportation innovation.

4. Description of Duties: The Committee is advisory only. Duties include the following:

a. Gathering information as necessary to discuss issues presented by the Designated Federal Officer (DFO).

b. Deliberating on the following issues, as assigned:

(1) Exploring pathways to safe, secure, equitable, environmentally friendly and accessible deployments of emerging technologies;

(2) Identifying practices for responsibly addressing the introduction of emerging technologies into transportation, including automation and artificial intelligence. In the context of emerging technologies, TTAC may consider issues such as: approaches and policies to promote safety and equity in the deployment of emerging technologies; the secure exchange and sharing of data across the public and private sectors; and ways the Department can identify cybersecurity risks and elevate mitigation strategies;

(3) Recommending policies that encourage innovation to grow and support a safe and productive U.S. workforce, as well as foster economic competitiveness and job quality;

(4) Identifying how DOT and its partners can leverage emerging technologies to help improve the delivery of safe, equitable, efficient, and affordable transportation projects;

(5) Considering other emerging issues, topics, and technologies, at the direction of the DFO.

(6) Providing written advice and recommendations to the Secretary.

5. Agency/Official to Whom The Committee Reports: The Committee will report to the Secretary through the Under Secretary for Transportation Policy.

6. Support: The Office of the Assistant Secretary for Transportation Policy (OST-P) will provide necessary support for the Committee.

7. Estimated Annual Operating Costs and Staff Years: The annual operating (administrative) costs associated with the Committee's functions are estimated to be $250,000. The cost estimate includes support from 2 full-time equivalent positions that are required to support the Committee. Costs incurred by Committee members appointed as Special Government Employees (SGEs) for travel and logistics may be paid by the Department, subject to funding availability.

8. Designated Federal Officer (DFO) and Sponsor

a. The DFO for the Committee is the Senior Advisor for Innovation reporting to the Under Secretary of Transportation for Policy; or, if that position is vacant, a full-time or permanent part-time Federal official designated by the Under Secretary of Transportation for Policy.

b. The DFO will approve or call all Committee meetings, prepare and approve all Committee meeting agendas, attend all Committee meetings, adjourn any meetings when he or she determines adjournment to be in the public interest, and chair meetings when directed to do so by the Secretary. The DFO or his/her delegate will attend all subcommittee meetings.

9. Number and Frequency of Meetings: Committee meetings will be held approximately twice a year. As necessary, the DFO may call subcommittee meetings.

10. Duration: Continuing until renewed/terminated.

11. Termination: The Committee will terminate 2 years from the charter filing date unless the charter is renewed in accordance with the FACA.

12. Membership and Designation

a. Members will serve without charge, and without any government compensation.

b. The Committee will comprise no more than 35 members appointed by the Secretary for up to 2-year terms.

c. Members serve at the discretion of the Secretary. The Secretary may reappoint current members and appoint replacements for members outside a stated term, as necessary.

d. The members will include safety advocates, experts from academia/universities, representatives of organized labor, technical experts (e.g., automation, data, privacy, cybersecurity, artificial intelligence), and industry representatives. Individuals appointed solely for their expertise will be appointed as SGEs. No single interest group may constitute a majority of the Committee.

e. To ensure that the recommendations of the Committee have considered the needs of diverse groups served by the Department, membership will include, to the extent practicable, persons with lived experience and knowledge of the needs of underrepresented groups.

f. Members may continue to serve until their replacements have been appointed.

g. The Secretary will designate a chair and vice chair from among members of the Committee. They will serve 2-year nonrenewable terms. Upon the end of their terms, the Secretary may appoint a new chair and vice chair. If the Secretary does not appoint a new chair, the vice chair may succeed the chair at the end of the term.

13. Subcommittees: The Secretary, Under Secretary for Transportation Policy, or DFO will be authorized to establish subcommittees. Subcommittees will not work independently of the chartered TTAC and will report their recommendations and advice to the full TTAC for deliberation and discussion. Subcommittees must not provide advice or work products directly to DOT. Subcommittee membership is not limited to those who were selected as members of the Committee. Further, any costs associated with subcommittee travel or meetings will not be paid by the Department.

14. Recordkeeping: The records of the Committee, formally and informally established subcommittees, or other subgroups of the Committee, will be handled in accordance with General Records Schedule 6.2 or other approved agency records disposition schedule. These records will be available for public inspection and copying, subject to the Freedom of Information Act, 5 U.S.C. 552.

15. Filing Date: This charter is effective July 7, 2024. The charter will expire 2 years after this date unless sooner terminated or renewed.

[FR Doc. 2024-15291 Filed 7-11-24; 8:45 am]

BILLING CODE 4910-9X-P